INTERNATIONAL BOUNDARY AND WATER COMMISSION

United States and Mexico; United States Section; Notice of Availability of a Draft Supplemental Environmental Assessment: Flood Control Improvements to the Rio Grande Canalization Project From Vinton to Canutillo, El Paso County, Texas (Canutillo Phase II)

AGENCY: United States Section, International Boundary and Water Commission, United States and Mexico (USIBWC).

ACTION: Notice of Availability of the Draft Supplemental Environmental Assessment (SEA).

SUMMARY: Pursuant to Section 102(2)(c) of the National Environmental Policy Act of 1969; the Council on Environmental Quality Final Regulations; and the United States Section, Operational Procedures for Implementing Section 102 of NEPA, published in the Federal Register September 2, 1981, (46 FR 44083); the United States Section hereby gives notice that the Draft Supplemental Environmental Assessment and Mitigated Finding of No Significant Impact for Flood Control Improvements to the Rio Grande Canalization Project from Vinton to Canutillo, El Paso County, Texas (Canutillo Phase II) is available. An environmental impact statement will not be prepared unless additional information which may affect this decision is brought to our attention within 30-days from the date of this Notice.

Public Comments: USIBWC will consider substantive comments from the public and stakeholders for 30 days after the date of publication of this Notice of Availability in the Federal Register.

Please note all written and email comments received during the comment period will become part of the public record, including any personal information you may provide. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Comments and requests for public hearings should be sent to: Elizabeth Verdecchia, Natural Resources Specialist, USIBWC, 4171 N. Mesa, C-100; El Paso, Texas 79902. Telephone: (915) 832-4701, Fax: (915) 493-2428, email: Elizabeth.Verdecchia@ibwc.gov.

Background: This Draft SEA analyzes the potential impacts of constructing a flood control improvement project along the Rio Grande located within a portion of the Rio Grande Canalization Project (RGCP) protective levee system in El Paso County, Texas along approximately 5.6 miles on the east bank from just north of Vinton Road Bridge, south through the Canutillo area, and downstream to Borderland Bridge.

The purpose is to construct a flood control structure with the following objectives: (1) Eliminate levee deficiencies within the Vinton to Canutillo reach and provide flood protection to withstand the 100-year flood with a minimum of 2 feet freeboard; (2) Maintain the design flood capacity of the RGCP; and 3) Enable the USIBWC to obtain accreditation of levees by the Federal Emergency Management Agency (FEMA).

In the Final Environmental Assessment on Flood Control Improvements to the Rio Grande Canalization Project, dated December 2007, the USIBWC proposed to conduct flood control improvements along approximately 52-miles of east and west levees within the RGCP. The proposed action included the construction of a new flood control structure in the Canutillo Area; however, details of the proposed structure had not been developed and were therefore not analyzed in the 2007 EA.

This Draft SEA evaluates potential environmental impacts of the No Action Alternative and the Preferred Alternative. The Preferred Alternative calls for the construction of a combination of 3 miles of new earthen levees on the floodplain and 2.6 miles of concrete floodwall where limited right of way or physical space exists between the river and the railroad. The Preferred Alternative would also require the construction of a floodgate at the Canutillo Bridge, eleven drainage structures on ephemeral streams with bank stabilization (including modification of one existing drainage structure and construction of ten new drainage structures). Scour protection blankets would be required on some sections of the earthen levee that are close to the river bank. Permits would be required from the Burlington Northern Santa Fe Railroad for work within the railroad right of way. An Individual Permit would be required from the U.S. Army Corps of Engineers for dredge and fill of Waters of the United States, per the Clean Water Act Sections 404 and 401. Six additional alternatives were considered and evaluated in previous analyses but were either found to not meet the purpose and need or were impractical.

Potential impacts on natural, cultural, and other resources were evaluated. While the Preferred Alternative does have adverse impacts to riparian vegetation, Waters of the United States, and access to the river for recreation, the USIBWC has proposed mitigation to restore over 35 acres of native riparian habitat on the floodplain. Mitigation would be part of required permits for construction. A Mitigated Finding of No Significant Impact has been prepared for the Preferred Alternative based on a review of the facts and analyses contained in the SEA.

FOR FURTHER INFORMATION CONTACT: Elizabeth Verdecchia, Natural Resources Specialist, USIBWC, 4171 N. Mesa, C-100; El Paso, Texas 79902. Telephone: (915) 832-4701, Fax: (915) 493-2428, email: Elizabeth.Verdecchia@ibwc.gov.

Availability: The electronic version of the Draft SEA is available from the USIBWC Web page: https://www.ibwc.gov/EMD/EIS_EA_Public_Comment.html.

Dated: May 16, 2017.
Matt Myers,
Chief Legal Counsel.

[FR Doc. 2017-11535 Filed 6-2-17; 8:45 am]

BILLING CODE 7010-01-P